SOCIAL SECURITY ADMINISTRATION

[Docket No. SSA-2014-0023]

Agreement on Social Security Between the United States and the Slovak Republic; Entry Into Force

AGENCY: Social Security Administration (SSA).

ACTION: Notice.

SUMMARY: We are giving notice that an agreement coordinating the United States (U.S.) and the Slovak social security programs entered into force on May 1, 2014. The agreement with the Slovak Republic, which was signed on December 10, 2012, is similar to U.S. social security agreements already in force with 24 other countries—Australia, Austria, Belgium, Canada, Chile, the Czech Republic, Denmark, Finland, France, Germany, Greece, Ireland, Italy, Japan, Korea (South), Luxembourg, the Netherlands, Norway, Poland, Portugal, Spain, Sweden, Switzerland and the United Kingdom. Section 233 of the Social Security Act authorizes agreements of this type. 42 U.S.C. 433.

SUPPLEMENTARY INFORMATION: Like the other agreements, the U.S.-Slovak agreement eliminates dual social security coverage. This situation exists when a worker from one country works in the other country and has coverage under the social security systems of both countries for the same work. Without such agreements in force, when dual coverage occurs, the worker, the worker's employer, or both may be required to pay social security contributions to the two countries simultaneously. Under the U.S.-Slovak agreement, a worker who is sent by an employer in one country to work in the other country for 5 years or less remains covered only by the sending country. The agreement includes additional rules that eliminate dual U.S. and Slovak coverage in other work situations.

The agreement also helps eliminate situations where workers suffer a loss of benefit rights because they have divided their careers between the two countries. Under the agreement, workers may qualify for partial U.S. benefits or partial Slovak benefits based on combined (totalized) work credits from both countries.

If you want more information about the agreement's provisions, you may write to the Social Security Administration, Office of International Programs, Post Office Box 17741, Baltimore, MD 21235-7741 or visit the Social Security Web site at www.socialsecurity.gov/international. The full text of the agreement and its accompanying administrative arrangement is available at www.socialsecurity.gov/international/Agreement_Texts/slovakrepublic.html.

Dated: June 10, 2014.
Carolyn Colvin,
Acting Commissioner of Social Security.

[FR Doc. 2014-14217 Filed 6-17-14; 8:45 am]

BILLING CODE 4191-02-P